DEPARTMENT OF LABOR

Office of Disability Employment Policy

Proposed Revision of Information Collection; Workforce Recruitment Program (WRP)

AGENCY: Office of Disability Employment Policy (ODEP), United States Department of Labor (DOL).

ACTION: Request for public comments.

SUMMARY: The Department of Labor, as part of its continuing effort to reduce paperwork and respondent burden, conducts a pre-clearance request for comment to provide the general public and Federal agencies with an opportunity to comment on proposed collections of information in accordance with the Paperwork Reduction Act of 1995. This request helps to ensure that: requested data can be provided in the desired format; reporting burden (time and financial resources) is minimized; collection instruments are clearly understood; and the impact of collection requirements on respondents can be properly assessed. Currently, the Office of Disability Employment Policy, Department of Labor, (ODEP) is soliciting comments on the information collection for the WRP.

DATES: All comments must be received on or before April 10, 2026.

ADDRESSES: You may submit comment as follows. Please note that late, untimely filed comments will not be considered.

Electronic Submissions: Submit electronic comments in the following way:

• Federal eRulemaking Portal: https://www.regulations.gov. Follow the instructions for submitting comments. Comments submitted electronically, including attachments, to https://www.regulations.gov will be posted to the docket, with no changes. Because your comment will be made public, you are responsible for ensuring that your comment does not include any confidential information that you or a third party may not wish to be posted, such as your or anyone else's Social Security number or confidential business information.

• If your comment includes confidential information that you do not wish to be made available to the public, submit the comment as a written/paper submission.

Written/Paper Submissions: Submit written/paper submissions in the following way:

• Mail/Hand Delivery: Mail or visit DOL-ODEP, 200 Constitution Ave. NW, Room S-5315, Washington,

• ODEP will post your comment as well as any attachments, except for information submitted and marked as confidential, in the docket at https://www.regulations.gov.

FOR FURTHER INFORMATION CONTACT: Colleen Doyle by telephone at 202-693-7863 (this is not a toll-free number) or by email at DOL_PRA_PUBLIC@dol.gov.

SUPPLEMENTARY INFORMATION: The WRP is a recruitment and referral program that connects students with disabilities to an opportunity for employment. Through participating colleges and universities, WRP creates a database for Federal and select private-sector employers nationwide to find college students and recent graduates with disabilities who are eager to demonstrate their abilities in the workplace through summer or permanent jobs. Candidates represent all majors, and range from college freshmen to graduate students and law students. Information from these candidates is compiled in a searchable database that is available through this website to Federal Human Resources Specialists, Equal Employment Opportunity Specialists, and other Federal employees and hiring officials in Federal agencies.

Every year, WRP staff approach more than 300 colleges and universities to participate in the WRP recruitment process for the year. WRP School Coordinators at these schools create accounts during which they enter information about characteristics of their institution. Then, they conduct outreach to their school's eligible students and encourage them to apply to participate in the WRP. School Coordinators must be college staff and are usually from the career or disability services office. Candidates that are approved by the School Coordinators and completed the application by the deadline are given the opportunity to have an elective informational interview with a trained volunteer WRP Recruiter from a Federal agency.

To be eligible to register, candidates must be current, full-time, degree-seeking undergraduate or graduate students with a disability, or have graduated within two and a half years of the release of the database each December. Candidates must be U.S. citizens, must be attending or have graduated from a U.S. accredited college or university, and be eligible under the Schedule A Hiring Authority for persons with disabilities. Candidates must also be approved by a WRP School Coordinator to apply to WRP and participate in an interview.

Candidates are not interviewing for specific positions at specific agencies. They have the opportunity to have an elective informational interview with a Federal recruiter to learn about Federal service and discuss their career path. Candidates are not placed into jobs; they are simply applying to be part of a database of postsecondary students and recent graduates with disabilities that is made available to Federal employers directly and to the private sector through a contractor. Employers will then reach out to candidates directly if they are interested in interviewing or hiring them for a specific position. Candidates should be aware that WRP is not a guarantee of employment and not everyone who participates in WRP is contacted by employers.

ODEP is soliciting comments concerning the proposed information collection related to the WRP. ODEP is particularly interested in comments that:

• Evaluate whether the collection of information is necessary for the proper performance of the functions of the Agency, including whether the information has practical utility;

• Evaluate the accuracy of ODEP's estimate of the burden related to the information collection, including the validity of the methodology and assumptions used in the estimate;

• Suggest methods to enhance the quality, utility, and clarity of the information to be collected; and

• Minimize the burden of the information collection on those who are to respond, including through the use of appropriate automated, electronic, mechanical, or other technological collection techniques or other forms of information technology, e.g., permitting electronic submission of responses.

Documents related to this information collection request are available at https://regulations.gov. Questions about the information collection requirements may be directed to the person listed in the FOR FURTHER INFORMATION CONTACT section of this notice.

This information collection request concerns WRP. ODEP has updated the data with respect to the number of respondents, responses, burden hours, and burden costs supporting this information collection request from the previous information collection request.

Type of Review: Substantive change to a currently approved collection.

Agency: DOL-ODEP.

OMB Control Number: 1230-0017.

Affected Public: Individuals or households/Colleges or universities.

Total Estimated Annual Number of Respondents: 3,100.

Total Estimated Annual Number of Responses: 3,100.

Total Estimated Annual Time Burden: 2,600 hours.

Total Estimated Annual Other Costs Burden: $0.

Estimated Annual Hours of Burden to Participant Data Collection
Information collection | Category of respondent | Number of respondents | Participation time | Burden (hours)
Student Participants | Individuals or Households | 2,500 | 1 hour | 2,500
School Coordinators | Colleges or Universities | 600 | 10 minutes | 100
Totals |  | 3,100 |  | 2,600

Comments submitted in response to this notice will be summarized in the request for Office of Management and Budget approval of the proposed information collection request; they will become a matter of public record and will be available at https://www.reginfo.gov.

Authority: 44 U.S.C. 3506(c)(2)(A).

Dated: February 4, 2026.
Julie Hocker,
Assistant Secretary, Office of Disability Employment Policy.

[FR Doc. 2026-02471 Filed 2-6-26; 8:45 am]

BILLING CODE 4510-FK-P